SECURITIES AND EXCHANGE COMMISSION

[Release No. 34-75053; File No. SR-Phlx- 2015-46]

Self-Regulatory Organizations; NASDAQ OMX PHLX LLC; Notice of Filing of Proposed Rule Change To Amend the Amended and Restated Certificate of Incorporation and By-Laws of The NASDAQ OMX Group, Inc.

May 27, 2015.

Correction

In notice document 2015-13175, appearing on pages 31439-31440 in the issue of Tuesday, June 2, 2015, make the following correction:

On page 31440, in the first column, on the last line, “June 22, 2015.” should read “June 23, 2015.”

[FR Doc. C1-2015-13175 Filed 6-11-15; 8:45 am]

BILLING CODE 1505-01-D